DEPARTMENT OF THE INTERIOR

Office of the Secretary

Notice of Proposed Renewal of Information Collection: OMB Control Number 1093-0004, Take Pride in America Program

AGENCY: Office of the Secretary, Interior.

ACTION: Notice and request for comments.

SUMMARY: In compliance with section 3506(c)(2)(A) of the Paperwork Reduction Act of 1995, the Office of the Secretary, Department of the Interior (DOI), announces that it has submitted a request for proposed extension of an information collection to the Office of Management and Budget and requests public comments on this submission.

DATES: OMB has up to 60 days to approve or disapprove the information collection request, but may respond after 30 days; therefore, public comments should be submitted to OMB by April 26, 2010, in order to be assured of consideration.

ADDRESSES: Send your written comments by facsimile to (202) 395-5806 or e-mail (OIRA_DOCKET@omb.eop.gov) to the Office of Information and Regulatory Affairs, Office of Management and Budget, Attention: Department of the Interior Desk Officer (1093-0004). Also, please send a copy of your comments to U.S. Department of the Interior, Office of the Secretary, Take Pride in America, Attn. Lisa Young, Department of the Interior, 1849 C Street, NW., Mailstop 3559 MIB, Washington, DC 20240, or via e-mail to lisa_young@ios.doi.gov. Individuals providing comments should reference OMB control number 1093-0004, “Take Pride in America National Awards Application/Nomination Process.”

FOR FURTHER INFORMATION CONTACT: Requests for additional information on this information collection should be directed to Lisa Young at U.S. Department of the Interior, Office of the Secretary, Take Pride in America, 1849 C Street, NW., Mailstop 3559 MIB, Washington, DC 20240. You may also request further information by e-mail at lisa_young@ios.doi.gov or call (202) 208-7586.

SUPPLEMENTARY INFORMATION:

I. Abstract

Office of Management and Budget (OMB) regulations at 5 CFR part 1320, which implement the Paperwork Reduction Act of 1995 (Pub. L. 104-13), require that interested members of the public and affected parties have an opportunity to comment on information collection and recordkeeping activities (see 5 CFR 1320.8(d)). This notice identifies an information collection activity that the Office of the Secretary, Take Pride in America has submitted to OMB for renewal.

Under the Take Pride in America Program Act (the Act), 16 U.S.C. 46-01-4608, the Secretary of the Interior is to: (1) “Conduct a national awards program to honor those individuals and entities which, in the opinion of the Secretary * * * have distinguished themselves in activities” under the purposes of the Act, and also to (2) “establish and maintain a public awareness campaign in cooperation with public and private organizations and individuals—(A) To instill in the public the importance of the appropriate use of, and appreciation for Federal, State and local lands, facilities, and natural and cultural resources; (B) to encourage an attitude of stewardship and responsibility towards these lands, facilities, and resources; and (C) to promote participation by individuals, organizations, and communities of a conservation ethic in caring for these lands, facilities, and resources.” The Act states that “[t]he Secretary is authorized * * * generally to do any and all lawful acts necessary or appropriate to further the purposes of the TPIA Program.”

If this information were not collected from the public, Take Pride in America awards would be limited to individuals and organizations nominated by Federal agencies based on projects within their sphere of influence. This would effectively block many worthy individuals and organizations from being considered for these awards. The TPIA Program was launched in April of 2003 with the stated intent of honoring the best in the Nation, without restriction. It would reflect poorly on the Department and on the President if only volunteers to Federal agencies could be honored for their service to America.

The OMB granted a three-year extension on March 22, 2007. This Office is now planning to extend the information collection approval authority in order to enable the Department of the Interior to continue to comply with the Take Pride in America Act, 16 U.S.C. 4601-4608.

II. Data

(1) Title: Take Pride in America National Awards; Application/Nomination Process.

OMB Control Number: 1093-0004.

Current Expiration Date: March 31, 2010.

Type of Review: Information Collection Renewal.

Affected Entities: Individuals or households. Businesses and other institutions. State, local and tribal Governments.

Estimated annual number of respondents: 130.

Frequency of response: On occasion.

(2) Annual reporting and record keeping burden:

Average annual reporting burden per respondent: 1 hour

Total annual reporting: 130 hours.

(3) Description of the need and use of the information: The statutorily required information is needed to provide the Office of the Secretary with a vehicle to collect the information needed to include individuals and organizations nominated by the public in applicant pools for TPIA National Awards and to recognize them for the valuable contributions that they make in support of the stewardship of America's lands, facilities, and cultural and natural resources.

(4) As required under 5 CFR 1320.8(d), a Federal Register notice soliciting comments on the information collection was published on October 16, 2009 (74 FR 53288). One comment was received. This comment was not directed at the information collection, and thus resulted in no change. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection in the Main Interior Building, 1849 C Street, NW., Washington, DC during normal business hours, excluding legal holidays. If you wish us to withhold your personal information, you must prominently state at the beginning of your comment what personal information you want us to withhold. We will honor your request to the extent allowable by law. For an appointment to inspect comments, please contact Lisa Young by telephone on (202) 208-7586, or by e-mail at lisa_young@ios.doi.gov. A valid picture identification is required for entry into the Department of the Interior.

An agency may not conduct or sponsor, and a person is not required to respond to, a collection of information unless it displays a currently valid Office of Management and Budget control number.

Dated: March 18, 2010.
Lisa Young,
Executive Director, Take Pride in America Program.

[FR Doc. 2010-6390 Filed 3-24-10; 8:45 am]

BILLING CODE 4310-RK-P